DEPARTMENT OF ENERGY

Federal Energy Regulatory Commission

[Docket No. CP00-166-000]

Williams Gas Pipelines Central, Inc.; Notice of Petition to Amend

April 13, 2000.

Take notice that on April 3, 2000, Williams Gas Pipelines Central, Inc. (Williams), 3800 Frederica Street, Owensboro, Kentucky 42301, filed an application pursuant to Section 7(c) of the Natural Gas Act (NGA), as amended, for further amendment to the certificate of public convenience and necessity issued in this proceeding on December 30, 1963, authorizing the Webb storage field in Grant County, Oklahoma.

Specifically, Williams seeks authority to increase the effective storage area by: (1) Acquiring the gas storage rights under an additional 480 acres for a buffer zone, adjacent to the west boundary of the storage leasehold interests previously authorized; (2) constructing three 4-inch gathering laterals of approximately 1500 feet, 250 feet and 125 feet to connect 14 existing production wells, converted to pressure relief well operation, to the storage system; and, (3) installing and operating measurement and appurtenant facilities, all as more fully set forth in the application which is on file with the Commission and open to public inspection. The application may be viewed on the web at www.ferc.fed.us/online/rims.htm (Call (202) 208-2222 for assistance).

Any questions regarding the application may be directed to David N. Roberts, Manager of Tariffs and Regulatory Analysis, P.O. Box 20008, Owensboro, Kentucky 42304, (270) 688-6712.

Any person desiring to be heard or to make any protest with reference to said application should on or before May 4, 2000, file with the Federal Energy Regulatory Commission, 888 First Street, NE, Washington, DC 20426, a motion to intervene or a protest in accordance with the requirements of the Commission's Rules of Practice and Procedure (18 CFR 385.214 and the regulations under the Natural Gas Act 18 CFR 157.10). All protests filed with the Commission will be considered by it in determining the appropriate action to be taken but will not serve to make the protestants parties to the proceeding. Any person wishing to become a party to the proceeding or to participate as a party in any hearing therein must file a motion to intervene in accordance with the Commission's Rules.

A person obtaining intervener status will be placed on the service list maintained by the Secretary of the Commission and will receive copies of all documents issued by the Commission, filed by the applicant, or filed by all other interveners. An intervener can file for rehearing of any Commission order and can petition for court review of any such order. However, an intervener must serve copies of comments or any other filing it makes with the Commission to every other intervener in the proceeding, as well as filing an original and 14 copies with the Commission.

A person does not have to intervene, however, in order to have comments considered. A person, instead, may submit two copies of such comments to the Secretary of the Commission. Commenters will be placed on the Commission's environmental mailing list, will receive copies of environmental documents,and will be able to participate in meetings associated with the Commission's environmental review process. Commenters will not be required to serve copies of filed documents on all other parties. However, Commenters will not receive copies of all documents filed by other parties or issued by the Commission, and will not have the right to seek rehearing or appeal the Commission's final order to a Federal court. The Commission will consider all comments and concerns equally, whether filed by comments or those requesting intervener status.

Take further notice that, pursuant to the authority contained in and subject to the jurisdiction conferred upon, the Federal Energy Regulatory Commission by Sections 7 and 15 of the Natural Gas Act, as amended, and the Commission's Rules of Practice and Procedure, a hearing will be held without further notice before the Commission on this Application if no motion to intervene is filed within the time required herein, if the Commission on its own review of the matter finds that a grant of the requested authorization is required by the public convenience and necessity. If a motion for leave to intervene is timely filed, or if the Commission on its own believes that a formal hearing is required, further notice of such hearing will be duly given.

Under the procedure herein provided for unless otherwise advised, it will be unnecessary for Williams to appear or to be represented at the hearing.

David P. Boergers,
Secretary.

[FR Doc. 00-9761 Filed 4-18-00; 8:45 am]

BILLING CODE 6717-01-M